FEDERAL COMMUNICATIONS COMMISSION

47 CFR Part 0

Commission Organization

CFR Correction

In Title 47 of the Code of Federal Regulations, Parts 0 to 19, revised as of October 1, 2006, on page 45, in § 0.406, in paragraph (b)(2), the eighth sentence, beginning with “Additional procedures applicable . . .”, is removed and a sentence is added following the sixth sentence to read as follows:

§ 0.406 The rules and regulations.

* * * * *

(b) * * *

(2) * * * Part 1, subpart E, of this chapter contains general rules and procedures applicable to common carriers. * * *

* * * * *

[FR Doc. 07-55514 Filed 9-27-07; 8:45 am]

BILLING CODE 1505-01-D